DEPARTMENT OF THE INTERIOR

Bureau of Land Management

[LLAZG01000 L12320000 AL0000 LVRDAZ020000]

Proposed Supplementary Rules for the Hot Well Dunes Recreation Area, Public Lands Administered by the Bureau of Land Management Gila District and Safford Field Office, Graham County, AZ

AGENCY: Bureau of Land Management, Interior.

ACTION: Proposed Supplementary Rules.

SUMMARY: The Bureau of Land Management (BLM) is proposing new supplementary rules for the Hot Well Dunes (HWD) Recreation Area, public lands managed by the Gila District and Safford Field Office in Graham County, Arizona. The rules relate to the health and safety of public land users and protection of natural resources. These supplementary rules will be enforced by BLM law enforcement rangers within the HWD Recreation Area.

Proposed rules address vehicle rider capacity, clinging to or being towed by a vehicle, safety flags, vehicle use, public nudity, firearms, pets, speed limit, camping, waste disposal, and length of stay. All current supplementary rules will be rescinded and replaced by these revised rules for the HWD Recreation Area.

DATES: We invite comments until December 15, 2008. In developing final rules, the BLM may not consider comments postmarked or received after this date.

ADDRESSES: Written comments may be sent to the following address via regular mail or other delivery service: Bureau of Land Management, Safford Field Office, 711 14th Avenue, Safford, Arizona 85546. Comments may also be submitted via e-mail to Larry_Ramirez@blm.gov or faxed to 928-348-4450. You may access the Federal eRulemaking Portal at http://www.regulations.gov.

FOR FURTHER INFORMATION CONTACT: Scott Cooke, Field Manager, or Larry Ramirez, Law Enforcement Ranger, Bureau of Land Management, Safford Field Office, 711 14th Avenue, Safford, Arizona 85546, telephone 928-348-4400.

SUPPLEMENTARY INFORMATION:

I. Comment Procedures

II. Background and Purpose

III. Discussion of Supplementary Rules

IV. Procedural Matters

I. Comment Procedures

Written comments on the proposed supplementary rules should be specific, confined to issues pertinent to the proposed supplementary rules, and should explain the reason for any recommended change. Where possible, comments should reference the specific section or paragraph of the rules that the comment is addressing. You may also access and comment on the proposed supplementary rules at the Federal eRulemaking Portal by following the instructions at that site (see ADDRESSES). The BLM need not consider or include in the Administrative Record for the final supplementary rules: (a) Comments that the BLM receives after the close of the comment period (see DATES), unless they are postmarked or electronically dated before the deadline, or (b) comments delivered to an address other than those listed above (see ADDRESSES).

Before including your address, phone number, e-mail address, or other personal identifying information in your comment, be advised that your entire comment—including your personal identifying information—may be made publicly available at the Safford Field Office, 711 14th Avenue, Safford, Arizona 85546, during regular business hours (8 a.m. to 4 p.m.), Monday through Friday, except Federal holidays. While you can ask us in your comment to withhold from public review your personal identifying information, we cannot guarantee that we will be able to do so. The BLM will make available for public inspection in their entirety all submissions from organizations, businesses, and government agencies, or from individuals identifying themselves as representatives or officials of such entities.

II. Background and Purpose

These proposed supplementary rules apply to the designated HWD Recreation Area, public lands administered by the Gila District and Safford Field Office. Due to increases in visitation at the HWD, the nature of the terrain and vegetation, and the types of vehicles in use, the following rules are proposed to reduce threats to public health, safety, and property.

These supplementary rules will allow the BLM to increase law enforcement efforts that will help mitigate damage to natural resources and provide for public health and safe public recreation.

III. Discussion of Supplementary Rules

The Gila District/Safford Field Office proposes to rescind all prior supplementary rules for the HWD Recreation Area and issue these new supplementary rules under the Federal Land Policy and Management Act (FLPMA), Title 43 U.S.C. 1740 and Title 43 CFR 8365.1-6. The supplementary rules set forth requirements and prohibited acts that are applicable within the HWD Recreation Area, Graham County, Arizona.

IV. Procedural Matters

The principal author of the proposed supplementary rules is Larry Ramirez, Gila District/Safford Field Office Law Enforcement Ranger for the Bureau of Land Management.

Executive Order 12866, Regulatory Planning and Review

These proposed supplementary rules are not a significant regulatory action and are not subject to review by the Office of Management and Budget under Executive Order 12866. The proposed supplementary rules will not have an annual effect of $100 million or more on the economy. They are not intended to affect commercial activity, but impose rules of conduct on recreational visitors for health protection reasons in a limited area of the public lands. The supplementary rules will not adversely affect, in a material way, the economy, productivity, competition, jobs, environment, public health or safety, or State, local, or tribal governments or communities. The proposed supplementary rules do not materially alter the budgetary effects of entitlements, grants, user fees, or loan programs or the right or obligations of their recipients, nor do they raise novel legal or policy issues. They merely strive to protect human health, safety, and the environment.

Clarity of the Proposed Supplementary Rules

Executive Order 12866 requires each agency to write regulations that are simple and easy to understand. We invite your comments on how to make these proposed supplementary rules easier to understand, including answers to questions such as the following:

(1) Are the requirements in the proposed supplementary rules clearly stated?

(2) Do the proposed supplementary rules contain technical language or jargon that interferes with their clarity?

(3) Does the format of the proposed supplementary rules (grouping and order of sections, use of headings, paragraphing, etc.) aid or reduce their clarity?

(4) Would the proposed supplementary rules be easier to understand if they were divided into more (but shorter) sections?

(5) Is the description of the proposed supplementary rules in the SUPPLEMENTARY INFORMATION section of this preamble helpful in understanding the proposed supplementary rules? How could this description be more helpful in making the proposed supplementary rules easier to understand?

Please send any comments you may have on the clarity of the proposed supplementary rules to one of the addresses specified in the ADDRESSES section.

National Environmental Policy Act

The proposed supplementary rules do not constitute a major Federal action significantly affecting the quality of the human environment under section 102(2)(C) of the National Environmental Policy Act of 1969, Title 42 U.S.C. 4332(2)(C). This conclusion is set forth in a Finding of No Significant Impact signed by the Field Manager and supported by an Environmental Assessment.

Regulatory Flexibility Act

Congress enacted the Regulatory Flexibility Act (RFA) of 1980, as amended, Title 5 U.S.C. 601-612, to ensure that government regulations do not unnecessarily or disproportionately burden small entities. The RFA requires a regulatory flexibility analysis if a rule would have a significant economic impact, either detrimental or beneficial, on a substantial number of small entities. The proposed supplementary rules do not have a significant economic impact on entities of any size, but provide for the protection of persons, property, and resources on specific public lands. Therefore, the BLM has determined under the RFA that the proposed supplementary rules would not have a significant economic impact on a substantial number of small entities.

Small Business Regulatory Enforcement Fairness Act

These proposed supplementary rules do not constitute a “major rule” as defined at Title 5 U.S.C. 804(2). The proposed supplementary rules merely contain rules of conduct for recreational use of certain public lands. The proposed supplementary rules would have little or no effect on the economy.

Unfunded Mandates Reform Act

The proposed supplementary rules do not impose an unfunded mandate on State, local, or tribal governments in the aggregate, or the private sector, of more than $100 million per year; nor would they have a significant or unique effect on small governments. These proposed supplementary rules do not require anything of State, local, or tribal governments. Therefore, the BLM is not required to prepare a statement containing the information required by section 202 of the Unfunded Mandates Reform Act (Title 2 U.S.C. 1532).

Executive Order 12630, Governmental Actions and Interference With Constitutionally Protected Property Rights (Takings)

The proposed supplementary rules are not a government action capable of interfering with constitutionally protected property rights. The proposed supplementary rules do not address property rights or cause the impairment of anybody's property rights. Therefore, the BLM has determined that these proposed supplementary rules would not cause a “taking” of private property or require further discussion of “takings” implications under this Executive Order.

Executive Order 13132, Federalism

The proposed supplementary rules will not have substantial direct effects on the States, on the relationship between the Federal Government and the States, or on the distribution of power and responsibilities among the various levels of government. The proposed supplementary rules apply to a limited area of land in only one State, Arizona. Therefore, the BLM has determined that the proposed supplementary rules do not have sufficient Federalism implications to warrant preparation of a Federalism assessment.

Executive Order 12988, Civil Justice Reform

Under Executive Order 12988, we have determined that the proposed supplementary rules will not unduly burden the judicial system and that the requirements of sections 3(a) and 3(b)(2) of the Order are met. The supplementary rules contain rules of conduct for recreational use of certain public lands to protect human health and the environment.

Executive Order 13175, Consultation and Coordination With Indian Tribal Governments

In accordance with Executive Order 13175, the BLM has found that these proposed supplementary rules do not include policies that have tribal implications. The proposed supplementary rules do not affect lands held for the benefit of Indians, Aleuts, or Eskimos.

Paperwork Reduction Act

These proposed supplementary rules do not contain information collection requirements that the Office of Management and Budget must approve under the Paperwork Reduction Act, Title 44 U.S.C. 3501 et seq.

Supplementary Rules for the Hot Well Dunes Recreation Area, Graham County, Arizona

1. Vehicle Rider Capacity

A person operating an off-road vehicle within the HWD Recreation Area shall ride only on the permanent, regular seat attached to the off-road vehicle. The operator of an off-road vehicle shall not carry any additional person(s) on an off-road vehicle unless the vehicle is designed and manufactured to carry such additional person(s). No person shall ride an off-road vehicle unless the vehicle is designed and manufactured to carry that person.

2. Clinging to or Being Towed by a Vehicle

No person operating an off-road vehicle within the HWD Recreation Area shall attach the off-road vehicle to any object or person and tow such object or person. No person shall cling to, or be towed by, an off-road vehicle.

3. Safety Flags

Safety flags are required on all off-road vehicles used within the HWD Recreation Area. An exception to this requirement is made for Recreation Vehicles (RVs), Sport Utility Vehicles (SUVs), pickup trucks, and passenger sedans. Safety flags must be brilliant orange or red in color, and at least six (6) inches by 12 inches in size. Masts must be securely mounted on the off-road vehicle and extend eight (8) feet from the ground to the mast tip. Safety flags must be firmly attached to the top portion of a mast.

4. Vehicle Use

No off-road vehicle within the HWD Recreation Area will be allowed within areas enclosed by the metal, tube railings there or where signed as prohibited.

5. Nudity

Public nudity within the HWD Recreation Area and, in particular, in the hot tubs there, is prohibited.

6. Firearms and Archery

Archery and the discharge of firearms or other weapons, including pneumatic and spring-loaded BB guns and pellet guns, are prohibited within the HWD Recreation Area.

7. Pets

Pets must be leashed or otherwise physically restricted at all times within the HWD Recreation Area.

8. Speed Limit

The speed limit for off-road vehicles within the HWD Recreation Area is 10 miles per hour on the main access road and within 50 feet on either side of the main access road. The speed limit is also 10 miles per hour within 50 feet of a campsite or any concentration of three (3) or more people. Operating an off-road vehicle above this speed is prohibited.

9. Camping

Camping within the HWD Recreation Area is not allowed within the designated parking area; within areas enclosed by metal, tube railings; or where signed as prohibited.

10. Waste Disposal

Dumping of sewage or gray water is prohibited within the HWD Recreation Area.

11. Length of Stay

To ensure that everyone has an opportunity to enjoy the area, camping is limited to 14 days within any 28-day period.

Penalties

Under the Federal Land Policy and Management Act of 1976 (Title 43 U.S.C. 1733(a)), 43 CFR 8365.1-6, and 43 CFR 8360.0-7, persons who violate any of these supplementary rules are subject to arrest and, upon conviction, may be fined up to $1,000 and/or imprisoned for not more than 12 months, and may be subject to the enhanced penalties under Title 18 U.S.C. 3571.

Dated: October 8, 2008.
Helen M. Hankins,
Acting Arizona State Director.

[FR Doc. E8-24580 Filed 10-15-08; 8:45 am]

BILLING CODE 4310-32-P